INTERNATIONAL TRADE COMMISSION

[Investigation No. 332-538]

Advice Concerning Possible Modifications to the U.S. Generalized System of Preferences, 2012 Review: Additions and Competitive Need Limitation Waivers

AGENCY: United States International Trade Commission.

ACTION: Change in scope of investigation.

SUMMARY: Following receipt of a letter from the United States Trade Representative (USTR) dated February 21, 2013, advising of the withdrawal of several competitive need waiver petitions, the U.S. International Trade Commission (Commission) has terminated its investigation with respect to the articles subject to those withdrawn petitions and will not provide advice with respect to those articles.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Information specific to this investigation may be obtained from Alberto Goetzl, Project Leader, Office of Industries (202-205-3323 or alberto.goetzl@usitc.gov), Katherine Baldwin, Deputy Project Leader, Office of Industries (202-205-3396 or katherine.baldwin@usitc.gov), or Cynthia B. Foreso, Technical Advisor, Office of Industries (202-205-3348 or cynthia.foreso@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

Background: The Commission published notice of institution of this investigation and a public hearing to be held in connection therewith in the Federal Register on January 24, 2013 (78 FR 5205). As stated in the January 24, 2013, notice, the public hearing in this investigation (concerning the remaining articles) will be held on February 27, 2013. The deadline for filing post-hearing briefs and all other written submissions in this investigation (March 4, 2013) remains the same as previously announced, as does the date for transmitting the Commission's report to the USTR (April 8, 2013).

The USTR notified the Commission that petitions requesting competitive need waivers for imports of the following articles have been withdrawn, and that the request for Commission advice accordingly is being withdrawn. As a result, the Commission is terminating its investigation with respect to the withdrawn articles and will not provide probable economic effect advice regarding them:

Edible products of animal origin, not elsewhere specified or included (HTS subheading 0410.00.00) from Indonesia;

Orchids: Cut flowers and flower buds of a kind suitable for bouquets or for ornamental purposes, fresh, dried, dyed, bleached, impregnated or otherwise prepared (HTS subheading 0603.13.00) from Thailand;

Rice flour (HTS subheading 1102.90.25) from Thailand;

Food preparations not elsewhere specified or included, not canned or frozen (HTS subheading 2106.90.99) from Thailand;

Porcelain or china (o/than bone china) household table and kitchenware in sets in which aggregate value of arts./US note 6(b) o/$56 n/o $200 (HTS subheading 6911.10.37) from Indonesia.;

Ferrosilicon containing by weight more than 55% but not more than 80% of silicon, nesoi (HTS subheading 7202.21.50) from Russia;

Ferrosilicon manganese (HTS subheading 7202.30.00) from Georgia;

Stainless steel, not cast, flanges for tubes/pipes, not forged or forged and machined, tooled and otherwise processed after forging (HTS subheading 7307.21.50) from India;

Iron or steel (o/than stainless), not cast, flanges for tubes/pipes, not forged or forged and machined, tooled and processed after forging (HTS subheading 7307.91.50) from India;

Copper wire, coated or plated with metal (HTS subheading 7408.29.10) from Thailand; and

Ice skates w/footwear permanently attached (HTS subheading 9506.70.40) from Thailand.

All other information in the January 24, 2013, notice remains the same, including with respect to the procedures relating to the filing of written submissions and the submission of confidential business information.

Issued: March 1, 2013.
By order of the Commission.
Lisa R. Barton,
Acting Secretary to the Commission.

[FR Doc. 2013-05150 Filed 3-5-13; 8:45 am]

BILLING CODE 7020-02-P